DEPARTMENT OF ENERGY

Office of Energy Efficiency and Renewable Energy

Proposed Agency Information Collection

AGENCY: Office of Energy Efficiency and Renewable Energy, Department of Energy.

ACTION: Notice and Request for Comments.

SUMMARY: The Department of Energy (DOE) invites public comment on a proposed collection of information to support the Weatherization Assistance Program ARRA-Period Evaluation that DOE is developing for submission to the Office of Management and Budget (OMB) pursuant to the Paperwork Reduction Act of 1995. Comments submitted in response to this notice will be summarized and/or included in the request for OMB approval of this information collection; they also will become a matter of public record. Information about the operation of the program, energy used before and after weatherization, energy used by control group low-income homes, the effectiveness of specific energy efficiency measures, customer satisfaction with the program, and non-energy benefits is needed for a comprehensive and rigorous evaluation of the program operated during the American Recovery and Reinvestment Act of 2009 (ARRA), which includes Program Years 2009, 2010, and 2011.

DATES: Comments regarding this proposed information collection must be received on or before May 10, 2011. If you anticipate difficulty in submitting comments within that period, contact the person listed in ADDRESSES as soon as possible.

ADDRESSES: Written comments may be sent to: Bruce Tonn, Environmental Sciences Division, Oak Ridge National Laboratory, One Bethel Valley Road, P.O. Box 2008, MS-6038, Oak Ridge, TN 37831-6038, Fax #: (865) 576-8646, tonnbe@ornl.gov.

FOR FURTHER INFORMATION CONTACT: Requests for additional information or copies of the information collection instrument and instructions should be directed to Bruce Tonn, Environmental Sciences Division, Oak Ridge National Laboratory, One Bethel Valley Road, P.O. Box 2008, MS-6038, Oak Ridge, TN 37831-6038, Fax #: (865) 576-8646, tonnbe@ornl.gov.

The plan for this evaluation can be found at http://weatherization.ornl.gov. The surveys and data forms that comprise this information request can also be found at http://weatherization.ornl.gov.

SUPPLEMENTARY INFORMATION: This package contains: (1) OMB No.: 1910-NEW; (2) Package Title: The Weatherization Assistance Program ARRA-Period Evaluation; (3) Type of Review: Regular; (4) Purpose: This collection of information is necessary for a complete evaluation of the program that will weatherize approximately 600,000 low-income homes in Program Years 2009, 2010 and 2011; (5) Estimated Number of Total Respondents: 6,996. Information will be collected from seventy-four grantees (fifty states, five U.S. territories, Washington DC, two Native American tribes, and sixteen Weatherization Innovation grantees); one-thousand and nine local weatherization agencies; approximately one thousand utilities; approximately two thousand residents; and approximately 2,913 individuals working in the weatherization field; (6) Estimated Number of Total Responses: 8,196; (7) Estimated Number of Total Burden Hours: The estimated burden is 67,000 hours; (8) Estimated Reporting and Recordkeeping Cost Burden: There is no reporting or recordkeeping cost burden associated with this request.

Authority: Section 6861 of title 42 of the United States Code and 10 CFR 440.25 authorize the collection of this information.

Issued in Washington, DC on March 3, 2011.
Cathy Zoi,
Assistant Secretary, Energy Efficiency and Renewable Energy.

[FR Doc. 2011-5614 Filed 3-10-11; 8:45 am]

BILLING CODE 6450-01-P